EQUAL EMPLOYMENT OPPORTUNITY COMMISSION

Agency Information Collection Activities: Proposed Collection; Submission for OMB Review

AGENCY: Equal Employment Opportunity Commission.

ACTION: Final notice of submission for OMB review—“Freedom to Compete” Award.

SUMMARY: In accordance with the Paperwork Reduction Act of 1995, the Equal Employment Opportunity Commission (EEOC) hereby gives notice that it has submitted to the Office of Management and Budget (OMB) a request for approval of the new information collection request (nominations of potential award recipients) which will be used for the EEOC's “Freedom to Compete” Award.

DATES: Written comments must be submitted by August 30, 2004.

ADDRESSES: Comments should be submitted to the Office of Information and Regulatory Affairs, Attention: Karen Lee, Desk Officer for the U.S. Equal Employment Opportunity Commission, Office of Management and Budget, 725 17th Street, NW., Room 10235, New Executive Office Building, Washington, DC 20503 or electronically mailed to Klee@OMB.EOP.GOV. A copy of those comments should also be sent to Stephen Llwellyn, Acting Executive Officer, Executive Secretariat, Equal Employment Opportunity Commission, 10th Floor, 1801 L Street, NW., Washington, DC 20507. As a convenience to commentators, the EEOC's Executive Secretariat will accept EEOC's copy of comments by facsimile (“FAX”) transmission if they are six or fewer pages in length. The telephone number of the FAX receiver is (202) 663-4114 (this is not a toll-free number). Only comments of six or fewer pages will be accepted via FAX transmittal to assure access to the equipment. Receipt of FAX transmittals will not be acknowledged, except that the sender may request confirmation of receipt by calling the Executive Secretariat staff at (202) 663-4070 (voice) or (202) 663-4074 (TTY) (these are not toll-free telephone numbers). Copies of comments submitted to EEOC by the public will be available to review at the Commission's library, Room 6502, 1801 L Street, NW., Washington, DC 20507 between the hours of 9:30 a.m. and 5 p.m.

FOR FURTHER INFORMATION CONTACT: Lisa Fisher, Acting Director, Office of Communications and Legislative Affairs, 1801 L Street, NW., Washington, DC 20507, (202) 663-4056 (voice). This notice is available in the following formats: Large print, braille, audio tape and electronic file on computer disk. Requests for this notice in an alternative format should be made to the Publications Center at 1-800-699-3362.

SUPPLEMENTARY INFORMATION: The Equal Employment Opportunity Commission (EEOC) enforces title VII of the Civil Rights Act of 1964, the Equal Pay Act, the Age Discrimination in Employment Act, the Rehabilitation Act, title I of the Americans with Disabilities Act, and the Pregnancy Employment Discrimination Act. Pursuant to its authority under those statutes, EEOC launched the “Freedom to Compete” (FTC) initiative, a national outreach, education and coalition-building strategy designed to complement the agency's enforcement and litigation efforts by identifying EEO practices and programs worthy of emulation. The Commission has built and seeks to further build partnerships and strategic alliances with various stakeholders that can directly and indirectly ensure equal opportunity in the nation's workplaces. One component of this initiative is the Equal Employment Opportunity Commission's “Freedom to Compete” Award. The Award is designed to recognize employers, organizations and entities whose extraordinary efforts embody the EEOC's mission of ensuring individuals the freedom to compete in the workplace on a level playing field regardless of race, color, gender, age, national origin, religion or disability. The Award will be presented to entities that have demonstrated exemplary efforts in promoting free and unfettered access to opportunities in the workplace. The Award will be based on nominations received from the public.

This notice concerns the nomination form which constitutes a collection of information under the Paperwork Reduction Act. A prior notice that the EEOC would be submitting this request to OMB for approval under the Paperwork Reduction Act was published at 68 FR 67437 (December 2, 2003), allowing for a 60 day comment period. Two comments were received, one from the Equal Employment Advisory Council and one from the National Industry Liaison Group (“NILG”). Both comments praised the EEOC's effort to recognize excellent performance in the EEO area, noting that the proposed collection was both necessary for the EEOC's proper performance and helpful in providing clarity for individuals interested in emulating a particular EEO program or initiative. In addition, NILG suggested that nomination materials be permitted to be filed electronically (the EEOC has adopted this suggestion) and that the EEOC utilize its own internal records to determine if award nominees have any EEO charges pending against them (the EEOC has not adopted this suggestion). The Commission intends to verify charge information for finalists, but believes that self-declaration will materially enhance the application process. Award applicants should be mindful of current charges in drafting nominations so that their presentations will be realistic and can address trends and practical results. For example, the applicant may be able to explain that the number of charges are trending down since implementation or that they particularly addressed a specific type of activity (e.g., sexual harassment) and no new charges have been filed since full implementation. These and other types of relationships between the implemented practice and pending charges may not be obvious to Commission staff from Commission data. Of course, if the information on charges is not readily available (e.g., nominations from third parties), the nominating party can simply explain that the information is not available and the Commission will rely on its own data.

Pursuant to the Paperwork Reduction Act of 1995, 44 U.S.C. chapter 35, and OMB regulation 5 CFR 1320.8(d)(1), the Commission solicits public comment on its proposed nomination form to enable it to:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

The remainder of this SUPPLEMENTARY INFORMATION section provides the public with information it will need to comment on the EEOC proposal. It contains an overview of the information collection and the proposed nomination form.

Overview of This Information Collection

Title: Nomination for the Equal Employment Opportunity Commission's “Freedom to Compete” Award.

OMB Number: None.

Description of Affected Public: Individuals or households; Businesses or other for profit, Not-for-profit institutions; State or local governments.

Number of Responses: 100.

Estimated Reporting Time Per Respondent: 10 hours.

Total Burden Hours: 1,000 hours.

Federal Cost: None.

Proposed Nomination Form

“Freedom To Compete” Award

The Equal Employment Opportunity Commission's “ Freedom to Compete” Award is designed to recognize organizations and individuals whose extraordinary efforts embody the EEOC's mission of ensuring individuals the freedom to compete in the workplace on a level playing field and to go as far as their talent and abilities will allow regardless of race, color, gender, age, national origin, religion or disability. Award winners will be given the Commission's “Freedom to Compete” Award, which will be presented by the Chair of the Commission at an annual ceremony in Washington, DC. All nominees will be required to disclose any charges and litigation involving the statutes enforced by the Commission. Receipt of the “Freedom to Compete” Award does not constitute a waiver by the Commission nor will it be considered with respect to any future charges and investigations against nominees or award recipients. Background: In 2002, under the leadership of Chair Cari M. Dominguez, EEOC launched the “Freedom to Compete” (FTC) initiative, a national outreach, education and coalition-building strategy designed to complement the agency's enforcement and litigation efforts by identifying EEO practices and programs worthy of emulation. The Commission has built and seeks to further build partnerships and strategic alliances with various stakeholders that can directly and indirectly influence positive change in the nation's workplaces. The Award will be presented to individuals and organizations that have demonstrated exemplary efforts in promoting free and unfettered access to opportunities in the workplace. The Award will be called the “Freedom to Compete” Award.

Eligibility Criteria

The following criteria apply to the Freedom to Compete Award Nominees:

A. The nominees must be public or private employers, corporations, associations, organizations, or others whose activities exemplify the goals of the Chair's “Freedom to Compete” initiative. Nominees may self-nominate or be nominated by others.

B. Nominees must have implemented a program or practice that has successfully removed barriers that hinder free and fair workplace competition and increased access, inclusion, and/or promotional opportunities for qualified workers. The program or practice must involve one or more of the following components: Innovative leadership, outreach, education, recruitment, training/development, promotion, retention, and/or mentoring.

C. Nominees must report any unresolved violations of state or Federal law, or any pending Federal or state enforcement actions, any corrective actions or consent decrees that have resulted from litigation under the laws enforced by the Equal Employment Opportunity Commission.

D. Recipients of this Award agree to participate in programs, meetings, and/or other collaborative efforts with the Commission for the purpose of publicizing the award-winning program/effort, and agree to share information to assist other entities seeking to replicate the program/effort. Recipients agree to take part in Commission efforts to promote the “Freedom to Compete” Award and the principles of free and fair workplace competition that underlie the award.

Nomination Submission Requirements

This is an essay format (1,000 words or less) application. Programs/activities must have been in place for at least one year and have measurable and demonstrable results. Essays should include the following:

• A profile of your organization—its mission, size, number of employees, nature of work, and, if a business, a description of its products/services, assets and annual revenues.

• A description of what led you to implement the program/practice.

• How you went about developing the program/practice. Describe who was involved, how it evolved, whether any major obstacles were encountered and how they were overcome, and how long the program/practice has been in place.

• A description of the program/practice. Explain the structure of the program/practice, how it is managed and measured, and who is accountable for results.

• Describe the level of executive involvement in, and commitment to, the program/practice during both development and implementation.

• A description of the tangible results. Explain what makes your program/practice effective, and how it has positively affected the lives of your workers. Address how the program/practice has helped to bring about free and fair competition in your workplace.

• A description of the joint activities your organization and the EEOC could undertake to share the program/effort with other entities and to promote the principles of free and fair workplace competition in partnership. Explain why others would find your program valuable.

Timing and Acceptable Methods of Submission of Nominations

Nomination packages must be submitted to __, 1801 L Street, NW., Washington, DC 20507 by __. Submissions may be made by hand delivery, by regular mail or electronically to Freedom2eeoc.gov. Any application received or postmarked after __ will not be considered. All applications will be acknowledged.

The Administrative Review Process

Nominations will be evaluated by EEOC staff, with final award determinations made by the EEOC Chair.

Location

The awards ceremony will generally be held during the month of __ at a location to be determined by the EEOC Chair.

Paperwork Reduction Act Notice

Persons are not required to respond to a collection of information unless it displays a currently valid Office of Management and Budget (OMB) control number. This collection of information is approved under OMB number __ (Expiration Date: __). The obligation to respond to this information collection is voluntary; however, only nomination that follow the nomination procedures outlined in this notice will receive consideration. The average time to respond to this information collection is estimated to be 10 hours per response; including time for reviewing instructions, researching existing data sources, gathering and maintaining the data needed, and completing and reviewing the collection of information. Submit comments regarding this estimate; including suggestions for reducing response time to the U.S. Equal Employment Opportunity Commission, Office of the Chair, 1801 L Street, NW., Washington, DC 20507. Please reference to OMB Number __. We are very interested in your thoughts and suggestions about your experience in preparing and filing this nomination packet for the Equal Employment Opportunity Commission's Freedom to Compete Award. Your comments will be very useful to the Commission in making improvements in our solicitation for nominations for this award in subsequent years.

Dated: July 22, 2004.
For the Commission.
Cari M. Dominguez,
Chair.

[FR Doc. 04-17399 Filed 7-29-04; 8:45 am]

BILLING CODE 6570-01-P